ENVIRONMENTAL PROTECTION AGENCY

[FRL-9950-14-OAR]

Clean Air Act Advisory Committee (CAAAC): Notice of Meeting

AGENCY: Environmental Protection Agency (EPA).

ACTION: Notice of meeting.

SUMMARY: The Environmental Protection Agency (EPA) announces an upcoming public teleconference of the Clean Air Act Advisory Committee (CAAAC) to discuss draft recommendations from the Ports Initiative Workgroup of the Mobile Sources Technical Review Subcommittee (MSTRS). The EPA established the CAAAC on November 19, 1990, to provide independent advice and counsel to EPA on policy issues associated with implementation of the Clean Air Act of 1990. The Committee advises on economic, environmental, technical, scientific and enforcement policy issues.

DATES: Pursuant to 5 U.S.C. App. 2 Section 10(a) (2), notice is hereby given that the CAAAC will hold a teleconference to discuss draft recommendations from the MSTRS Ports Initiative Workgroup on September 7, 2016 from 2:00 p.m. to 3:30 p.m. (Eastern Time).

Inspection of Committee Documents: The committee agenda and any documents prepared for the meeting will be publicly available on the CAAAC Web site at http://www.epa.gov/oar/caaac/ prior to the meeting. Thereafter, these documents, together with CAAAC meeting minutes, will be available on the CAAAC Web site or by contacting the Office of Air and Radiation Docket and requesting information under docket EPA-HQ-OAR-2004-0075. The docket office can be reached by email at: a-and-r-Docket@epa.gov or FAX: 202-566-9744.

FOR FURTHER INFORMATION CONTACT: Any member of the public who wants further information concerning the CAAAC's public teleconference may contact Tamara Saltman at saltman.tamara@epa.gov or Sarah Froman at froman.sarah@epa.gov of the Office of Air and Radiation, U.S. EPA. Additional information about this meeting, the CAAAC, and its subcommittees and workgroups can be found on the CAAAC Web site: http://www.epa.gov/oar/caaac/. For information on access or services for individuals with disabilities, please contact Lorraine Reddick at reddick.lorraine@epa.gov, preferably at least 10 days prior to the meeting to give EPA as much time as possible to process your request.

Dated: July 19, 2016.
Jim DeMocker,
Interim Designated Federal Officer, Clean Air Act Advisory Committee, Office of Air and Radiation.

[FR Doc. 2016-18329 Filed 8-1-16; 8:45 am]

BILLING CODE 6560-50-P